DEPARTMENT OF ENERGY

Federal Energy Regulatory Commission

[Docket No. CP08-93-000]

Northern Natural Gas Company; Notice of Application

March 27, 2008.

Take notice that on March 19, 2008, Northern Natural Gas Company (Northern), 1111 South 103rd Street, Omaha, Nebraska 68124, filed in Docket No. CP08-93-000 an application pursuant to section 7(b) of the Natural Gas Act (NGA) and part 157 of the Commission's regulations for permission and approval to abandon in-place compression facilities at its Kermit compressor station, located in Winkler County, Texas, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TTY, (202) 502-8659.

Specifically, Northern proposes to abandon in-place two compressor units: A G.E. 9,300 horsepower unit and a Solar 1,080 horsepower unit and station piping at its Kermit compressor station. Northern states that the two units were damaged during a fire and explosion in the spring of 2003. Northern avers that no physical construction activities will occur to abandon the compressor units in-place since the units were severed from the station piping and disconnected after the fire and explosion were contained. Northern declares that it will retain the compressor station yard along with the office building for Northern's personnel to utilize. Northern avers that a by-pass pipeline around the compressor station was constructed and is now in operation and service has been restored. Northern states that the abandonment would not impact any firm service obligations to Northern's existing shippers since the pipeline facilities, including the relocated by-pass pipeline, will have the capacity to continue full, uninterrupted service.

Any questions regarding this application should be directed to Michael T. Loeffler, Senior Director of Certificates and External Affairs, Northern Natural Gas Company, 1111 South 103rd Street, Omaha, Nebraska 68124, at (402) 398-7103.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: April 17, 2008.

Kimberly D. Bose,
Secretary.

[FR Doc. E8-6864 Filed 4-1-08; 8:45 am]

BILLING CODE 6717-01-P